DEPARTMENT OF EDUCATION

34 CFR Chapter VI

[Docket ID ED-2025-OPE-0016]

Intent To Receive Public Feedback for the Development of Proposed Regulations and Establish Negotiated Rulemaking Committee

AGENCY: Office of Postsecondary Education, Department of Education.

ACTION: Intent to negotiate.

SUMMARY: We announce our intention to host public hearings and establish one or more negotiated rulemaking committees to prepare proposed regulations on various programs authorized under title IV of the Higher Education Act of 1965, as amended (HEA) (title IV, HEA programs). The Department invites public feedback, especially addressing topics which may include Public Service Loan Forgiveness (PSLF), Pay As You Earn (PAYE), Income-Contingent Repayment (ICR), or other topics that would streamline current federal student financial assistance programs.

DATES:

Comments due: We must receive written comments on the topics suggested by the Department and additional topics that may be considered on or before May 5, 2025.

Hearing dates: The dates, times, and locations for the public hearings are listed under the SUPPLEMENTARY INFORMATION section of this document.

ADDRESSES: Comments must be submitted through the Federal eRulemaking Portal at regulations.gov. Information on using Regulations.gov, including instructions for submitting comments, is available on the site under “FAQ.” If you require an accommodation or cannot otherwise submit your comments via Regulations.gov, please contact regulationshelpdesk@gsa.gov or by phone at 1-866-498-2945. If you are deaf, hard of hearing, or have a speech disability and wish to access telecommunications relay services, please dial 7-1-1.

The Department will not accept comments submitted by fax or by email or comments submitted after the comment period closes. To ensure that we do not receive duplicate copies, please submit your comments only once. Additionally, please include the Docket ID at the top of your comments.

FOR FURTHER INFORMATION CONTACT: For information about negotiated rulemaking, see the Frequently Asked Questions Section of the Negotiated Rulemaking Process for title IV regulations website at: https://www.ed.gov/laws-and-policy/higher-education-laws-and-policy/negotiated-rulemaking-process-title-iv-regulations-frequently-asked-questions.

For information about the public hearings, or for additional information about negotiated rulemaking, contact: Tamy Abernathy, U.S. Department of Education, Office of Postsecondary Education, 400 Maryland Avenue SW, 5th Floor, Washington, DC 20202. Telephone: (202) 245-4595. Email: NegRegNPRMHelp@ed.gov.

If you are deaf, hard of hearing, or have a speech disability and wish to access telecommunications relay services, please dial 7-1-1.

SUPPLEMENTARY INFORMATION: Section 492 of the HEA (20 U.S.C. 1098a) requires that, before publishing any proposed regulations to implement programs authorized under title IV of the HEA, the Secretary must obtain public involvement in the development of the proposed regulations. After obtaining advice and recommendations from the public, the Secretary conducts negotiated rulemaking to develop the proposed regulations. We announce our intent to develop proposed title IV regulations by following the negotiated rulemaking procedures in section 492 of the HEA (20 U.S.C. 1098a). These topics will focus on how title IV regulations have impacted institutions, States, and other partners and if their implementation may be inhibiting innovation and contributing to rising college costs. We believe any rulemaking effort should provide the opportunity to streamline or eliminate unnecessary regulatory processes that are not otherwise required by law. The feedback can be received during two public hearings, including one in-person hearing and one virtual hearing, at which interested parties may comment on the topics suggested by the Department and may suggest additional topics that should be considered for action. Additionally, the Department will accept written comments on the topics suggested by the Department and suggestions for additional topics that should be considered for action. Finally, any negotiating committees will include representatives of organizations or groups with interests that are significantly affected by the subject matter of the proposed regulations.

We intend to select negotiators from nominees of the organizations and groups that represent the interests significantly affected by the proposed regulations. To the extent possible, we will select individual negotiators from the nominees who reflect a wide variety of experts among program participants, in accordance with section 492(b)(1) of the HEA (20 U.S.C. 1098a).

Regulatory Issues

We intend to convene one or more negotiated rulemaking committees to develop proposed regulations pertaining to title IV regulations that have impacted institutions, States, and other partners and if their implementation may be inhibiting innovation and contributing to rising college costs. Some proposed topics for negotiation would include:

1. Refining definitions of a qualifying employer for the purposes of determining eligibility for the Public Service Loan Forgiveness program.

2. Pay As You Earn (PAYE) and Income Contingent Repayment (ICR) repayment plans.

3. Potential topics that would streamline current federal student financial assistance program regulations while maintaining or improving program integrity and institutional quality.

We will publish a notice in the Federal Register announcing the topics of PSLF, PAYE, ICR, or other topics related to current federal student financial assistance programs. This notice will solicit nominations for individual negotiators who represent the communities of interest significantly affected by the proposed regulations. This notice will also be posted on the Department's website at: https://www.ed.gov/laws-and-policy/higher-education-laws-and-policy/higher-education-policy/negotiated-rulemaking-for-higher-education-2025-2026.

Public Hearings

For interested parties who want to discuss the rulemaking agenda, the Department will hold two public hearings, including one in-person hearing at the U.S. Department of Education located at 400 Maryland Ave. SW, Barnard Auditorium, Washington, DC 20202 and one virtual hearing. The in-person public hearing will be held on April 29, 2025, from 9:00 a.m. to 12:00 p.m. with a lunch break from 12:00 p.m. to 1:00 p.m., and from 1:00 p.m. to 4:00 p.m. Eastern Time. The virtual public hearing will be held from 9 a.m. to noon and 1 p.m. to 4 p.m., Eastern time, on May 1, 2025. Additional information on the public hearings is available at https://www.ed.gov/laws-and-policy/higher-education-laws-and-policy/higher-education-policy/negotiated-rulemaking-for-higher-education-2025-2026.

Individuals who would like to present comments at the public hearing must register by sending an email message to negreghearing@ed.gov no later than noon, Eastern time, on the business day prior to the public hearing. The message should include the name of the presenter, the general topic(s) the individual would like to address, and one or more dates and times during which the individual would be available to speak. We will attempt to accommodate each speaker's preference, but, if we are unable to do so, we will select speakers on a first-come, first-served basis, based on the date and time we received the message. We will limit each participant to three minutes. For those who need a reasonable modification in order to provide a live comment during the hearing, please see the “Reasonable Modifications” section below for information about how to make such a request.

The Department will notify registrants of the date and time slot reserved for them and, for the virtual hearing, will provide information on how to log in to the hearing as a speaker. An individual may make only one presentation at the public hearings. If we receive more registrations than we are able to accommodate, the Department reserves the right to reject the registration of an entity or individual that is affiliated with an entity or individual that is already scheduled to present comments, and to select among registrants to ensure that a broad range of entities and individuals is allowed to present. We will accept registrations for any remaining time slots on a first-come, first-served basis, beginning at 8 a.m. on the day of the public hearing at the Department's on-site registration table (or at negreghearing@ed.gov for the virtual hearing).

Reasonable Modifications: The hearings will be accessible to individuals with disabilities. Information for contacting the Department to request auxiliary aids or services to provide a live comment will be included in the registration process for providing a live comment at the hearing. If you will need an auxiliary aid or service to provide your comment, please notify the person listed under FOR FURTHER INFORMATION CONTACT in this notice at least two weeks before the scheduled meeting date.

Registration is not required to observe the in-person public hearings; however, space may be limited. Registration is required to view the virtual public hearing. American Sign Language translation will be provided to all who attend the hearings, and closed captioning will be provided for the virtual public hearing. We will post links for attendees who wish to observe on our website at https://www.ed.gov/laws-and-policy/higher-education-laws-and-policy/higher-education-policy/negotiated-rulemaking-for-higher-education-2025-2026. The Department will also post transcripts of all hearings on that site.

The Department will accept written comments via the Federal eRulemaking portal through May 5, 2025. See the ADDRESSES section of this document for submission information.

Privacy Note: The Department's policy is to generally make comments received from members of the public available for public viewing in their entirety on the Federal eRulemaking Portal at www.regulations.gov. Therefore, commenters should be careful to include in their comments only information that they wish to make publicly available. Commenters should not include in their comments any information that identifies other individuals or that permits readers to identify other individuals. The Department reserves the right to redact at any time any information in comments that identifies other individuals, includes information that would allow readers to identify other individuals, or includes threats of harm to another person. This may include comments where the commenter refers to a third-party individual without using their name if the Department determines that the comment provides enough detail that could allow one or more readers to link the information to the third-party individual. If your comment refers to a third-party individual, please refer to the third-party individual anonymously to reduce the chance that information in your comment could be linked to the third party. For example, “a former student with a graduate level degree” does not provide information that identifies a third-party individual as opposed to “my sister, Jane Doe, had this experience while attending University X,” which does provide enough information to identify a specific third-party individual. For privacy reasons, the Department reserves the right to not make available on Regulations.gov any information in comments that identifies other individuals, includes information that would allow readers to identify other individuals, or includes threats of harm to another person or to oneself.

Schedule for Negotiations

The dates and locations of negotiated rulemaking meetings will be published in a subsequent Federal Register document and posted online at: https://www.ed.gov/laws-and-policy/higher-education-laws-and-policy/higher-education-policy/negotiated-rulemaking-for-higher-education-2025-2026.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or portable document format (PDF). To use PDF, you must have Adobe Acrobat Reader, which is available for free on the site. You may also access documents of the Department published in the Federal Register by using the article search feature at: www.federalregister.gov. Specifically, through the advanced search feature at this site, you can limit your search to documents published by the Department.

Program Authority: 20 U.S.C. 1098a.

James P. Bergeron,
Acting Under Secretary.

[FR Doc. 2025-05825 Filed 4-3-25; 8:45 am]

BILLING CODE 4000-01-P